ENVIRONMENTAL PROTECTION AGENCY

[FRL-12375-01-OMS]

National and Governmental Advisory Committees to the U.S. Representative to the Commission for Environmental Cooperation

AGENCY: Environmental Protection Agency (EPA).

ACTION: Notice of meeting.

SUMMARY: Under the Federal Advisory Committee Act, the EPA gives notice of a public meeting of the National Advisory Committee (NAC) and the Governmental Advisory Committee (GAC). The NAC and GAC provide advice to the EPA Administrator on a broad range of environmental policy, technology, and management issues. NAC and GAC members represent academia, business/industry, non-governmental organizations, and state, local, and Tribal governments. The purpose of this meeting is to provide advice to the EPA Administrator on the 2026-2030 Commission for Environmental Cooperation (CEC) Strategic Plan, and other matters related to the Commission for Environmental Cooperation. Due to unforeseen administrative circumstances, it is possible that EPA may announce this meeting with less than 15 calendar days' notice.

DATES: The meeting will be held December 5, 2024, from 8 a.m. to 3 p.m. (MST). The registration deadline is November 29, 2024. Requests to make oral comments or submit written public comments must be received by November 29, 2024. Requests for accessibility and/or accommodations for individuals with disabilities must be received by December 3, 2024.

ADDRESSES: The meeting will be held virtually and in-person at San Xavier District Community Center, 2018 West San Xavier Road, Tucson, Arizona 85746. A copy of the agenda will be posted at http://www.epa.gov/faca/nac-gac.

FOR FURTHER INFORMATION CONTACT: Oscar Carrillo at (202) 564-0347 or via email at carrillo.oscar@epa.gov.

SUPPLEMENTARY INFORMATION: The NAC and GAC are Presidential Federal advisory committees that advise the U.S. Government via the EPA Administrator on trade and environmental matters related to the Environmental Cooperation Agreement (ECA), which entered into force at the same time as the United States-Mexico Canada Agreement (USMCA). The NAC and GAC were created in 1994 and operate in accordance with the Federal Advisory Committee Act. Establishment of the committees is authorized under Article 11 of the ECA. The meeting will be held virtually and in-person in Tucson, Arizona at 2018 West San Xavier Road, Tucson, Arizona 85746. The meeting is open to the public with limited seating available for in-person attendance and on a first come, first served basis. Members of the public wishing to participate or attend in-person must contact Oscar Carrillo at carrillo.oscar@epa.gov or 202-564-0347 by November 29, 2024, to register. Members of the public wishing to attend or participate virtually must contact Oscar Carrillo using the information above by November 29, 2024, to receive a link to the meeting.

Requests to make oral comments or submit written public comments to the committees, also should be directed to Oscar Carrillo at least four business days prior to the meeting (November 29, 2024). Requests for accessibility and/or accommodations for individuals with disabilities should be directed to Oscar Carrillo at the phone number or email address listed above. To ensure adequate time for processing, please make requests for accommodations by December 3, 2024.

Robersena Young-Mackall,
Director.

[FR Doc. 2024-26997 Filed 11-19-24; 8:45 am]

BILLING CODE 6560-50-P